NATIONAL FOUNDATION ON THE ARTS AND THE HUMANITIES

National Endowment for the Arts; Arts Advisory Panel

Pursuant to Section 10(a)(2) of the Federal Advisory Committee Act (Pub. L. 92-463), as amended, notice is hereby given that seven meetings of the Arts Advisory Panel to the National Council on the Arts will be held at the Nancy Hanks Center, 1100 Pennsylvania Avenue, NW., Washington, DC 20506 as follows (ending times are approximate):

State & Regional/Arts Education (State Partnership Agreements review): January 6-7, 2010 in Room 716. This meeting, from 9 a.m. to 10:15 a.m. and from12:30 p.m. to 5:30 p.m. on January 6th and from 9 a.m. to 2:30 p.m. on January 7th, will be open. A policy discussion will be held on January 7th from 11:30 a.m. to 12:30 p.m.

Media Arts (application review): January 11-13, 2010 in Room 730. This meeting, from 10 a.m. to 5:45 p.m. on January 11th, from 9 a.m. to 6 p.m. on January 12th, and from 9 a.m. to 4 p.m. on January 13th, will be closed.

Folk and Traditional Arts/National Heritage Fellowships (review of nominations): January 12-15, 2010 in Room 716. This meeting, from 9 a.m. to 6:30 p.m. on January 12th and 13th, from 9 a.m. to 5:30 p.m. on January 14th, and from 9 a.m. to 3:30 p.m. on January 15th, will be closed.

State & Regional (State Partnership Agreements review): January 20-21, 2010 in Room 716. This meeting, from 9:30 a.m. to 6 p.m. on January 20th and from 9 a.m. to 4 p.m. on January 21st, will be open. A policy discussion is scheduled for January 21st at 2 p.m.

State & Regional (Regional Partnership Agreements review): January 21, 2010 in Room 716. This meeting, from 4:30 p.m. to 5:30 p.m., will be open. A policy discussion is scheduled for 5:15 p.m.

State & Regional/Folk Arts (State Partnership Agreements review): January 22, 2010 in Room 716. This meeting, from 9 a.m. to 5:30 p.m., will be open. A policy discussion is scheduled from 4 p.m. to 5 p.m.

American Masterpieces/Presenting (application review): January 25-26, 2010 in Room 716. This meeting, from 9 a.m. to 5:30 p.m. on January 25th and from 9 a.m. to 2:45 p.m. on January 26th, will be closed.

The closed portions of meetings are for the purpose of Panel review, discussion, evaluation, and recommendations on financial assistance under the National Foundation on the Arts and the Humanities Act of 1965, as amended, including information given in confidence to the agency. In accordance with the determination of the Chairman of November 10, 2009, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202-682-5532, TTDY-TDD 202-682-5496, at least seven (7) days prior to the meeting.

Further information with reference to these meetings can be obtained from Ms. Kathy Plowitz-Worden, Office of Guidelines & Panel Operations, National Endowment for the Arts, Washington, DC 20506, or call 202-682-5691.

Dated: December 11, 2009.
Kathy Plowitz-Worden,
Panel Coordinator, Panel Operations, National Endowment for the Arts.

[FR Doc. E9-29859 Filed 12-15-09; 8:45 am]

BILLING CODE 7537-01-P